SECURITIES AND EXCHANGE COMMISSION

[Release No. 34-59495A; File No. SR-FINRA-2008-052]

Self-Regulatory Organizations; Financial Industry Regulatory Authority, Inc.; Order Granting Approval of a Proposed Rule Change Relating to the Adoption of FINRA Rule 2140 (Interfering With the Transfer of Customer Accounts in the Context of Employment Disputes) in the Consolidated FINRA Rulebook; Correction

March 18, 2009.

In FR Doc. E9-5212, for Tuesday, March 11, 2009, on page 10633, third column, footnote 8, the text is revised to read:

The text of the proposed new FINRA rule, marked to show changes from NASD IM-2110-7 and to show that NASD IM-2110-7 is to be deleted in its entirety from the Transitional Rulebook, is attached as Exhibit 5 to the proposed rule change and is available at http://www.finra.org/Industry/Regulation/RuleFilings/2008/P117330. FINRA has transferred NASD Rule 2110 to the Consolidated FINRA Rulebook without change as FINRA Rule 2010. Securities Exchange Act Release No. 58643 (September 25, 2008), 73 FR 57174 (October 1, 2008) [File No. SR-FINRA-2008-028].

¹ 17 CFR 200.30-(a)(12).

For the Commission, by the Division of Trading and Markets, pursuant to delegated authority.¹
Florence E. Harmon,
Deputy Secretary.

[FR Doc. E9-6353 Filed 3-23-09; 8:45 am]

BILLING CODE 8010-01-P